FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 010099-045.

Title: International Council of Containership Operators.

Parties: A.P. Moller-Maersk A/S; ANL Container Line Pty Ltd.; American President Lines, Ltd.; APL Co. Pte. Ltd.; APL Limited; Atlantic Container Line AB; China Shipping Container Lines Co., Ltd.; CMA CGM, S.A.; Companhia Libra de Navegacao; COSCO Container Lines Company Limited; CP Ships USA LLC; Crowley Maritime Corporation; Delmas SAS; Evergreen Marine Corporation (Taiwan), Ltd.; Hamburg-Süd KG; Hanjin Shipping Co., Ltd.; Hapag-Lloyd AG; Hyundai Merchant Marine Co., Ltd.; Kawasaki Kisen Kaisha, Ltd.; Malaysia International Shipping Corporation Berhad; Mediterranean Shipping Company S.A.; Mitsui O.S.K. Lines, Ltd.; Montemar Maritima S.A.; Neptune Orient Lines, Ltd.; Nippon Yusen Kaisha; Norasia Container Line Limited; Orient Overseas Container Line, Limited; Pacific International Lines (Pte) Ltd.; Safmarine Container Line N.V.; United Arab Shipping Company (S.A.G.); Wan Hai Lines Ltd.; Yang Ming Transport Marine Corp.; and Zim Integrated Shipping Services Ltd.

Filing Party: John Longstreth, Esq.; Preston Gates Ellis & Rouvelas Meeds LLP; 1735 New York Avenue; Suite 500; Washington, DC 20006-5209.

Synopsis: The amendment changes Montemar's name to Compania Libra de Navegacion Uruguay S.A.

Agreement No.: 010977-059.

Title: Hispaniola Discussion Agreement.

Parties: Crowley Liner Services; Seaboard Marine Ltd.; and Tropical Shipping and Construction Co. Ltd.

Filing Party: Wayne R. Rohde, Esq.; Sher & Blackwell; 1850 M Street, NW.; Suite 900; Washington, DC 20036.

Synopsis: The amendment deletes Frontier Liner Services, Inc. as a party.

Agreement No.: 010982-040.

Title: Florida-Bahamas Shipowners and Operators Association.

Parties: Atlantic Caribbean Line, Inc.; Crowley Liner Services, Inc.; Nina (Bermuda) Ltd.; Pioneer Shipping Ltd.; Seaboard Marine, Ltd.; and Tropical Shipping and Construction Co., Ltd.

Filing Party: Wayne R. Rohde, Esq.; Sher & Blackwell LLP; 1850 M Street, NW.; Suite 900; Washington, DC 20036.

Synopsis: The amendment would add Nina (Bermuda) Ltd. as a party to the agreement.

Agreement No.: 011117-043.

Title: United States/Australasia Discussion Agreement.

Parties: A.P. Moller-Maersk A/S and Safmarine Container Lines NV; ANL Singapore Pte Ltd.; CMA-CGM, S.A.; Compagnie Maritime Marfret S.A.; Hamburg-Süd KG; Hapag-Lloyd AG; and Wallenius Wilhelmsen Logistics AS.

Filing Party: Wayne R. Rohde, Esq.; Sher & Blackwell LLP; 1850 M Street, NW.; Suite 900; Washington, DC 20036.

Synopsis: The amendment would add U.S. Lines Limited as a party.

Agreement No.: 011279-025.

Title: Latin America Agreement.

Parties: Central America Discussion Agreement; Hispaniola Discussion Agreement; Caribbean Shipowners Association; Venezuelan Discussion Agreement; ABC Discussion Agreement; West Coast of South America Discussion Agreement; Inland Shipping Services Association; Montemar Maritima S.A.; and Zim Integrated Shipping Services, Ltd.

Filing Party: Wayne R. Rohde, Esq.; Sher & Blackwell LLP; 1850 M Street, NW.; Suite 900; Washington, DC 20036.

Synopsis: The amendment updates the membership of the Hispaniola Discussion Agreement, the Caribbean Shipowners Association, and the West Coast of South America Agreement. It also updates the address of the Caribbean Shipowners Association and changes Montemar's name to Compania Libra de Navegacion Uruguay S.A.

Agreement No.: 011290-037.

Title: International Vessel Operators Hazardous Material Association Agreement.

Parties: Aliança Navegacao e Logistica Ltda.; APL Co. PTE Ltd.; A.P. Moller-Maersk A/S; Atlantic Container Line AB; Bermuda Container Line; China Shipping Container Lines Co., Ltd.; CMA CGM, S.A.; COSCO Container Lines, Inc.; Crowley Maritime Corporation; Evergreen Marine Corp. (Taiwan) Ltd.; Hamburg-Südamerikanische Dampfschifffahrts-Gesellschaft KG; Hanjin Shipping Co., Ltd.; Hapag-Lloyd Container Linie GmbH; Horizon Lines, LLC; Hyundai Merchant Marine Co., Ltd.; Independent Container Line Ltd.; Kawasaki Kisen Kaisha Ltd.; Marine Transport Lines, Inc.; Maruba SCA; Matson Navigation Company; Mitsui O.S.K. Lines, Ltd.; National Shipping Co. of Saudi Arabia; Nippon Yusen Kaisha Line; Orient Overseas Container Line Limited; Safmarine Container Lines; Seaboard Marine Ltd.; Senator Lines GmbH; Tropical Shipping & Construction Co., Ltd.; United Arab Shipping Co. S.A.G.; Yang Ming Marine Transport Corp.; and Zim Integrated Shipping Services, Ltd.

Filing Party: Wayne R. Rohde, Esq.; Sher & Blackwell LLP; 1850 M Street, NW.; Suite 900; Washington, DC 20036.

Synopsis: The amendment deletes Australia-New Zealand Direct Line, Compania Latino Americana de Navegacion SA, Contship Containerlines, CP Ships USA LLC, and Canada Maritime Agencies Ltd. as parties; updates addresses for CMA CGM, Hamburg-Süd, and Hapag-Lloyd; and changes Hapag-Lloyd's and Marine Transport Line's names.

Agreement No.: 011325-036.

Title: Westbound Transpacific Stabilization Agreement.

Parties: American President Lines, Ltd./APL Co. Pte Ltd.; COSCO Container Lines Company Limited; Evergreen Marine Corporation (Taiwan), Ltd.; Hanjin Shipping Co., Ltd.; Hapag-Lloyd AG; Hyundai Merchant Marine Co. Ltd.; Kawasaki Kisen Kaisha, Ltd.; Nippon Yusen Kaisha Line; Orient Overseas Container Line Limited; and Yangming Marine Transport Corp.

Filing Party: David F. Smith, Esq.; Sher & Blackwell, LLP; 1850 M Street, NW.; Suite 900; Washington, DC 20036.

Synopsis: The amendment deletes China Shipping Container Lines Co., Ltd. as a party.

Agreement No.: 011539-014.

Title: Montemar/HLAG Space Charter and Sailing Agreement.

Parties: Hapag-Lloyd AG and Montemar Maritima S.A.

Filing Party: Walter H. Lion, Esq.; McLaughlin & Stern, LLP; 260 Madison Avenue; New York, NY 10016.

Synopsis: The amendment changes Montemar's name to Compania Libra de Navegacion Uruguay S.A., changes the name of the agreement, and restates the agreement.

Agreement No.: 011672-005.

Title: CSAV Group Cooperative Working Agreement.

Parties: Compania Sud Americana de Vapores S.A.; Companhia Libra de Navegacao; Norasia Container Lines Limited; Montemar Maritima S.A.; and CSAV Sud Americana de Vapores S.A.

Filing Party: Walter H. Lion, Esq.; McLaughlin & Stern, LLP; 260 Madison Avenue; New York, New York, 10016.

Synopsis: The amendment changes Montemar's name to Compania Libra de Navegacion Uruguay S.A.

Agreement No.: 011872-002.

Title: USATLAN Cross Space Charter, Sailing and Cooperative Working Agreement.

Parties: Compania Sud Americana de Vapores S.A., Companhia Libra de Navegacao, and Montemar Maritima S.A.

Filing Party: Walter H. Lion, Esq; McLaughlin & Stern, LLP; 260 Madison Avenue; New York, New York 10016.

Synopsis: The amendment changes Montemar's name to Compania Libra de Navegacion Uruguay S.A.

Agreement No.: 011938-003.

Title: HSDG/Alianca/CSAV/Libra/CLNU Cooperative Working Agreement.

Parties: Hamburg-Sud; Alianca Navegacao e Logistica Ltda. e CIA; Compania Sud Americana de Vapores, S.A.; Companhia Libra de Navegacao; and Montemar Maritima S.A.

Filing Party: Walter H. Lion, Esq.; McLaughlin & Stern, LLP; 260 Madison Avenue; New York, New York 10016.

Synopsis: The amendment changes Montemar's name to Compania Libra de Navegacion Uruguay S.A. and restates the agreement.

Agreement No.: 011947-002.

Title: Grimaldi/Sallaum Space Charter Agreement.

Parties: Grimaldi Compagnia di Navigazione and Sallaum Lines SAL.

Filing Party: Wayne R. Rohde, Esq.; Sher & Blackwell LLP; 1850 M Street, NW.; Suite 900; Washington, DC 20036.

Synopsis: The amendment extends the duration of the agreement to February 28, 2007.

Agreement No.: 011953-001.

Title: Florida Shipowners Group Agreement.

Parties: The member lines of the Caribbean Shipowners Association and the Florida-Bahamas Shipowners and Operators Association.

Filing Party: Wayne R. Rhode, Esq.; Sher & Blackwell, 1800 M Street, NW., Suite 900; Washington, DC 20036.

Synopsis: The amendment updates the membership list of the Florida-Bahamas Shipowners and Operators Association.

Agreement No.: 011978.

Title: USATLAN/Maruba Space Charter Agreement.

Parties: Compania Sud Americana de Vapores S.A., Companhia Libra de Navegacao, Compania Libra de Navegacion Uruguay S.A., and Maruba S.A.

Filing Party: Walter H. Lion, Esq; McLaughlin & Stern, LLP; 260 Madison Avenue; New York, New York 10016.

Synopsis: The agreement authorizes the parties to FMC Agreement No. 011872 to charter space to Maruba S.A. between U.S. East Coast ports and ports in Argentina, Brazil, Uruguay, and Venezuela.

Dated: November 3, 2006.
Bryant L. VanBrakle,
Secretary.

[FR Doc. E6-18889 Filed 11-7-06; 8:45 am]

BILLING CODE 6730-01-P